DEPARTMENT OF HEALTH AND HUMAN SERVICES

National Institutes of Health

National Human Genome Research Institute; Notice of Proposed Reorganization

AGENCY: National Institutes of Health, HHS.

ACTION: Notice.

SUMMARY: The National Human Genome Research Institute (NHGRI) of the National Institutes of Health (NIH) will host a public hearing to enable discussion of the Institute's proposal to reorganize the Division of Policy, Communications and Education. The proposed reorganization aims to enhance synergies in the areas of bioethics, policy, education, engagement, and communications.

DATES: The public hearing will take place February 19, 2020 at 2 p.m. E.T. using NHGRI's social media accounts. Any interested person may also file written comments by sending an email to NHGRIsocial@nih.gov or prior or during the scheduled public hearing. The statement should include the individual's name, and when applicable, professional affiliation.

ADDRESSES: The following email address has been established for comments on the reorganization: NHGRIsocial@nih.gov. The social media platforms that will be used and monitored during this hearing are:

• Twitter: @NHGRI_Director and @genome_gov

• Facebook: https://www.facebook.com/pg/genome.gov/

• LinkedIn: https://www.linkedin.com/company/2360728/

FOR FURTHER INFORMATION CONTACT: Sarah Bates, National Human Genome Research Institute, National Institutes of Health, 31 Center Drive, Room 4B09, Bethesda, MD 20892-2153, (301) 642-8978, NHGRIsocial@nih.gov.

SUPPLEMENTARY INFORMATION: Pursuant to the NIH Reform Act of 2006 (42 U.S.C. Sec.281 (d)(4)), NHGRI will a public hearing to discuss the proposed reorganization plans. The hearing will include a video presentation with details on the proposed internal reorganization followed by one hour of open discussion with NHGRI leadership on social media. The public is encouraged to email NHGRIsocial@nih.gov or use the hashtag #NHGRIreorg on social media for comments and questions. More information can be found at https://www.genome.gov/about-nhgri/Proposed-reorganization-of-DPCE.

Dated: February 10, 2020.
Eric D. Green,
Director, National Human Genome Research Institute, National Institutes of Health.

[FR Doc. 2020-03173 Filed 2-18-20; 8:45 am]

BILLING CODE 4140-01-P